DEPARTMENT OF ENERGY

Federal Energy Regulatory Commission

[Docket No. RT01-1-000]

RTO Informational Filings; Notice of Filing

October 20, 2000.

Take notice that between October 11 and October 18, 2000, the following listed entities tendered for filing voluntary informational filings in response to the Commission's Order No. 2000.¹

¹ Regional Transmission Organizations, Order No. 2000, 65 Fed. Reg. 809 (January 6, 2000), FERC Stats. & Regs. ¶ 31,089 (1999), order on reh'g, Order No. 200-A, 65 Fed. Reg. 12,088 (March 8, 2000), FERC Stats. & Regs. ¶ 31,092 (2000).

Glacier Electric Cooperative, Inc.; Minnkota Power Cooperative, Inc.; Department of Energy, Southeastern Power Administration; Dairyland Power Cooperative, Great River; Energy, Minnkota Power Cooperative; Rochester Public Utilities and Southern Minnesota Municipal Power Agency; Western Farmers Electric Cooperative; Department of Energy, Southwestern Power Administration; Department of Energy, Western Area Power Administration; Nebraska Public Power District; Southern Illinois Power Cooperative; Sunflower Electric Power Corporation; East Kentucky Power Cooperative, Inc.; Alabama Electric Cooperative, Inc.; Sam Rayburn G&T Electric Cooperative, Inc., Jasper-Newton Electric Cooperative, Inc., and Sam Houston Electric Cooperative, Inc.; Western Farmers Electric Cooperative; Arizona Electric Power Cooperative, Inc.; Tennessee Valley Public Power Association; Basin Electric Power Cooperative; Georgia Transmission Corporation; Oglethorpe Power Corporation; Lincoln Electric System; Corn Belt Power Cooperative, Inc.; Big Rivers Electric Corporation; Tri-State Generation and Transmission Association, Inc.; NB Power Corporation, Nova Scotia Power Incorporated, Maritime Electric Company Limited, and Maine Electric Power Company; Central Electric Power Cooperative, Inc.

Copies of these filings are on file with the Commission and are available for public inspection. These filings may also be viewed on the Internet at http://www.ferc.fed.us/online/rims.htm (call 202-208-2222 for assistance).

Linwood A. Watson, Jr.,
Acting Secretary.

[FR Doc. 00-27495 Filed 10-25-00; 8:45 am]

BILLING CODE 6717-01-M